DEPARTMENT OF JUSTICE

Notice of Lodging of Consent Decree Pursuant to the Comprehensive Environmental Response, Compensation and Liability Act and Resource Conservation and Recovery Act

Notice is hereby given that on March 31, 2005, a proposed Supplemental Consent Decree, in United States, et al., v. Outboard Marine Corp., et al., Civil No. 88-C-8571 (N.D. Ill.), was lodged with the United States District Court for the Northern District of Illinois, pertaining to the Outboard Marine Corporation (“OMC”) Superfund Site (the “Site”), located in Waukegan, Lake County, Illinois.

The Supplemental Consent Decree among the United States on behalf of the U.S. EPA, the State of Illinois (the “State”) (collectively, “Government Plaintiffs”) and the City of Waukegan, Illinois (the “City”) under the Comprehensive Environmental Response, Compensation and Liability Act, as amended (“CERCLA”), 42 U.S.C. 9601-9675; the Resource Conservation and Recovery Act (“RCRA”), 42 U.S.C. 6901-6992k; the Illinois Environmental Protection Act, 415 ILCS 5/1 et seq.; and other authorities, resolves the potential liability of the City, which has petitioned for leave of Court to intervene as Defendant, and its successors, assigns and transferees, for Existing Contamination at a portion (the “Property”) of the Site, located in Waukegan, Lake County, Illinois. The proposed settlement, incorporating aspects of a prospective purchaser agreement, is captioned as a Supplemental Consent Decree in this case brought in 1988 against OMC, which is currently in Chapter 7 bankruptcy proceedings initiated in December 2000 in Bankruptcy Court for the Northern District of Illinois.

This civil action was initially brought by the United States and the State of Illinois in 1988 against OMC under CERCLA and other authorities, in connection with releases and threatened releases of hazardous substances at the OMC Site, including the Property. On or about May 1, 1989, the Court entered a Consent Decree and Order resolving the Government Plaintiffs' claims against OMC. Under that Consent Decree, OMC completed design, remediation and restoration activities in 1995 to address polychlorinated biphenyl compounds (“PCB”) contamination in the Waukegan Harbor, lagoons, ditches and other areas around portions of the OMC Site, including the Property, pursuant to a Record of Decision issued by U.S. EPA under CERCLA. OMC performed operation and maintenance (“O&M”) of the Waukegan Harbor PCB remedy under the 1989 Consent Decree until January 2001, shortly after filing for bankruptcy.

Under the Supplemental Consent Decree, the City, after acquiring the Property, will finance and perform major aspects of the O&M of the Waukegan Harbor PCB Remedy, perform certain maintenance measures for Plant 2, a building structure on the Property, and implement institutional controls relating to the Property. The City will receive a covenant not to sue under Sections 106 and 107(a) CERCLA, 42 U.S.C. 9606 and 9607(a)—excluding natural resource damages—and certain provisions of RCRA, the Toxic Substances Control Act, 15 U.S.C. 2601-2692, the Clean Water Act, 33 U.S.C. 1251-1387, the Illinois Environmental Protection Act, 415 ILCS 5/1 et seq., Section 13 of the River and Harbors Act of 1899, 33 U.S.C. 407, the Illinois Public Nuisance Act, 415 ILCS 5/47-5 et seq. and common law nuisance with respect to the Existing Contamination at the property.

The United States and the State reserve their rights against the City for, among other things, failure to meet requirements of the Supplemental Consent Decree, exacerbation of Existing Contamination, and claims relating to any lien provisions of Section 107 of CERCLA, 42 U.S.C. 9607. The Supplemental Consent Decree terms anticipate that the City intends to develop the Property as part of a multi-parcel Brownfields initiative for the Waukegan Harbor area.

The Department of Justice will receive, for a period of thirty (30) days from the date of this publication, comments relating to the proposed Supplemental Consent Decree. Comments should be addressed to the Assistant Attorney General, Environment and Natural Resources Division, United States Department of Justice, P.O. Box 7611, Washington, DC 20044-7611, and should refer to United States et al., v. Outboard Marine Corp. et al., Civil No. 88-C-8571 (N.D. Ill.), and DOJ Reference No. 90-11-3-07051/3. Commenters may request an opportunity for a public meeting in the affected area, in accordance with Section 7003(d) of RCRA, 42 U.S.C. 6973(d).

The proposed Supplemental Consent Decree may be examined at: (1) The Office of the United States Attorney for the Northern District of Illinois, U.S. Courthouse, 1500 South, Everett McKinley Dirksen Bldg., 219 South Dearborn St., Chicago, IL 60604 (312-353-1994); and (2) the United States Environmental Protection Agency (Region 5), 77 West Jackson Blvd., Chicago, IL 60604-3507 (contact: Thomas Martin (312-886-4273)).

During the public comment period, the proposed Supplemental Consent Decree may also be examined on the following U.S. Department of Justice Web site, http://usdoj.gov/enrd/open.html. A copy of the porposed Supplemental Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation no. (202) 514-1547. In requesting a copy, please refer to the referenced case and DOJ reference Number and enclose a check in the amount of $10.50 for the Supplemental Consent Decree only (42 pages, at 25 cents per page reproduction cost), or $76.50 for the Supplemental Consent Decree and all appendices (306 pages), made payable to the U.S. Treasury.

W. Benjamin Fisherow,
Deputy Chief, Environmental Enforcement Section, Environment and Natural Resources Division.

[FR Doc. 05-7468 Filed 4-13-05; 8:45 am]

BILLING CODE 4410-15-M